DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before June 14, 2010.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC on May 20, 2010.
Delmer F. Billings,
Director, Office of Hazardous Materials, Special Permits and Approvals.

Application No. | Docket No. | Applicant | Regulation(s) affected | Nature of special permit thereof
Modification Special Permits
10407-M |  | Thermo Process Instruments, LP 175.3 (Former Grantee: Thermo Measure Tech), Sugar Land, TX | 49 CFR 173.302a(a); | To modify the special permit to authorize the addition of Boron trifluoride.
10646-M |  | Schlumberger Technologies Corporation, Sugar Land, TX | 49 CFR 173.302 | To modify the special to authorize additional Division 2.1 and 2.3 hazardous materials.
10785-M |  | Thermo Process Instruments, LP (Former Grantee: Thermo Measure Tech), Sugar Land, TX | 49 CFR 173.301(a)(1), 173.302a, 175.3 | To modify the special permit to authorize the addition of Boron trifluoride.
14466-M |  | Alaska Central Express, Inc., Anchorage, AK | 49 CFR 172.101 Column (9B) | To modify the special permit to authorize an additional Division 1.1D hazardous material.
14546-M |  | Linde Gas North America LLC, Murray Hill, NJ | 49 CFR 180.209 | To modify the special permit to remove the requirement to comply with 49 CFR 172.203(a), marking of shipping papers.
14573-M |  | Polar Tank Trailer, LLC, Holdingford, MN | 49 CFR 178.345-2 | To modify the special permit to authorize the use of an alternative duplex stainless steel.
14763-M |  | Weatherford International, Forth Worth, TX | 49 CFR 173.302a and 173.301(f) | To modify the special permit to change the minimum elongation from 12% to 10%.
14844-M |  | Northern Air Cargo, Anchorage, AK | 49 CFR 173.302(f) | To modify the special permit to authorize cylinders of less than 116 cubic feet to be used after June 30, 2010, to include other oxidizing gases and that the human and veterinary use only provision be removed.

[FR Doc. 2010-12717 Filed 5-27-10; 8:45 am]

BILLING CODE 4909-60-M